DEPARTMENT OF ENERGY

Office of Energy Efficiency and Renewable Energy

Agency Information Collection

AGENCY: Office of Energy Efficiency and Renewable Energy (EERE), Department of Energy (DOE).

ACTION: Notice and Request for Comments.

SUMMARY: The Department of Energy (DOE) today gives notice of a request for public comment, pursuant to the Paperwork Reduction Act of 1995, on the continued collection of information entitled: Budget Justification, which DOE has developed for submission to and approval by the Office of Management and Budget (OMB). Comments are invited on: (a) Whether the continued collection of such budget justification information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this continued information collection must be received on or before December 27, 2014. If you anticipate difficulty in submitting comments within that period, contact the person listed in ADDRESSES as soon as possible.

ADDRESSES: U.S. Department of Energy, Golden Field Office, 15013 Denver West Parkway, Golden, CO 80401-3111, Attn: James Cash.

FOR FURTHER INFORMATION CONTACT: Questions may be directed to James Cash at (720) 356-1456 or by email at james.cash@ee.doe.gov. The information collection instrument, entitled Budget Justification, may also be viewed at http://www1.eere.energy.gov/financing/resources.html.

SUPPLEMENTARY INFORMATION: This information collection request contains:

(1) OMB No. 1910-5162, Budget Justification;

(2) Information Collection Request Title: Budget Justification;

(3) Type of Request: Renewal;

(4) Purpose: This collection of information is necessary in order for DOE to identify allowable, allocable, and reasonable recipient project costs eligible for Grants and Cooperative Agreements under EERE programs;

(5) Annual Estimated Number of Respondents: 400;

(6) Annual Estimated Number of Total Responses: 400;

(7) Annual Estimated Number of Burden Hours: 24 hours, per response;

(8) Annual Estimated Reporting and Recordkeeping Cost Burden: $899.04 per one time response.

Authority: 10 CFR 600.112.

Issued in Golden, CO on October 17, 2014.
James Cash,
Contracting Officer.

[FR Doc. 2014-25238 Filed 10-22-14; 8:45 am]

BILLING CODE 6450-01-P